DEPARTMENT OF LABOR

Employment and Training Administration

Native American Employment and Training Council

AGENCY: Employment and Training Administration, Labor.

ACTION: Notice of Renewal of the Native American Employment and Training Council charter.

SUMMARY: The Secretary of Labor (Department) announces the renewal of the Native American Employment and Training Council (NAETC) charter.

SUPPLEMENTARY INFORMATION:

I. Background and Authority

Section 166(i)(4) of the Workforce Innovation and Opportunity Act (WIOA), 29 U.S.C. 3221(i)(4) requires the Secretary of Labor (Secretary) to establish and maintain the NAETC. The statute, as amended, requires the Secretary, to formally consult at least twice annually with the NAETC on the operation and administration of the WIOA Section 166 Indian and Native American Employment and Training programs. In addition, the NAETC advises the Secretary on matters that promote the employment and training needs of Indians and Native Americans, as well as to enhance the quality of life in accordance with the Indian Self-Determination and Education Assistance Act. The NAETC also provides guidance to the Secretary on how to make Department of Labor discretionary funding and other special initiatives more accessible to federally recognized tribes, Alaska Native entities, and Native Hawaiian organizations.

II. Structure

The Council will be composed of no less than 15 members, but no more than 20, appointed by the Secretary, who are representatives of Indian tribes, tribal organizations, Alaska Native entities, Indian-controlled organizations serving Indians, or Native Hawaiian organizations pursuant to WIOA Section 166(i)(4)(B). The membership of the Council will, to the extent practicable, represent all geographic areas of the United States with a substantial Indian, Alaska Native, or Native Hawaiian population, and will include representatives of tribal governments and of non-reservation Native American organizations that have expertise in the areas of workforce development, secondary and post-secondary education, health care, business and economic development, and other sectors with job growth.

Each NAETC member will be appointed for a two-year term. A vacancy occurring in the Council membership will be filled in the same manner as the original appointment. A member appointed to a vacancy on the Council will serve for the remainder of the term for which the predecessor of that member was appointed. Members of NAETC will serve on a voluntary and generally uncompensated basis, but will be reimbursed for travel expenses to attend NAETC meetings, including per diem in lieu of subsistence, as authorized by the Federal travel regulations. All NAETC members will serve at the pleasure of the Secretary. Members may be appointed, reappointed, or replaced, and their terms may be extended, changed, or terminated at the Secretary's discretion.

FOR FURTHER INFORMATION CONTACT: Kimberly Vitelli, Office of Workforce Investment; (202) 693-3980; vitelli.kimberly@dol.gov.

Authority: Pursuant to the Workforce Innovation and Opportunity Act, 29 U.S.C. 3221(i)(4); Federal Advisory Committee Act, as amended, 5 U.S.C. App.

Susan Frazier,
Acting Assistant Secretary for Employment and Training Administration.

[FR Doc. 2025-13305 Filed 7-15-25; 8:45 am]

BILLING CODE 4510-FN-P